DEPARTMENT OF ENERGY

Federal Energy Regulatory Commission

Combined Notice Of Filings #1

Take notice that the Commission received the following electric rate filings:

Docket Numbers: ER20-76-001.

Applicants: Tehachapi Plains Wind, LLC.

Description: Tariff Amendment: Amendment to Petition Requesting Market-Based Rate Authorization to be effective 12/10/2019.

Filed Date: 10/23/19.

Accession Number: 20191023-5060.

Comments Due: 5 p.m. ET 11/13/19.

Docket Numbers: ER20-168-000.

Applicants: Pacific Gas and Electric Company.

Description: § 205(d) Rate Filing: 2nd Amendment to Interim Black Start Agreement (RS 234) to be effective 12/21/2019.

Filed Date: 10/22/19.

Accession Number: 20191022-5167.

Comments Due: 5 p.m. ET 11/12/19.

Docket Numbers: ER20-169-000.

Applicants: Midcontinent Independent System Operator, Inc., Michigan Electric Transmission Company, LLC.

Description: § 205(d) Rate Filing: 2019-10-23_SA 2376 METC-Lowell Light and Power IFA 1st Rev to be effective 12/23/2019.

Filed Date: 10/23/19.

Accession Number: 20191023-5033.

Comments Due: 5 p.m. ET 11/13/19.

Docket Numbers: ER20-170-000.

Applicants: Midcontinent Independent System Operator, Inc.

Description: § 205(d) Rate Filing: 2019-10-23_Filing of MISO TOs for Cost Recovery of Operating and Maintenance Exp to be effective 1/1/2020.

Filed Date: 10/23/19.

Accession Number: 20191023-5070.

Comments Due: 5 p.m. ET 11/13/19.

Docket Numbers: ER20-171-000.

Applicants: Otter Tail Power Company.

Description: Tariff Cancellation: Notice of Termination of Service Agreement No. 50 with WMMPA to be effective 12/31/2019.

Filed Date: 10/23/19.

Accession Number: 20191023-5072.

Comments Due: 5 p.m. ET 11/13/19.

Docket Numbers: ER20-172-000.

Applicants: Pacific Gas and Electric Company.

Description: Tariff Cancellation: Notice of Termination sPower Sand Hill C E&P Agreement (SA 2100 EP-22) to be effective 10/21/2019.

Filed Date: 10/23/19.

Accession Number: 20191023-5083.

Comments Due: 5 p.m. ET 11/13/19.

Docket Numbers: ER20-173-000.

Applicants: RWE Renewables Energy Marketing, LLC.

Description: § 205(d) Rate Filing: Notice of Succession to be effective 12/22/2019.

Filed Date: 10/23/19.

Accession Number: 20191023-5090.

Comments Due: 5 p.m. ET 11/13/19.

Docket Numbers: ER20-174-000.

Applicants: Arizona Public Service Company.

Description: § 205(d) Rate Filing: Rate Schedule Nos. 298, 299 & 300 to be effective 12/23/2019.

Filed Date: 10/23/19.

Accession Number: 20191023-5104.

Comments Due: 5 p.m. ET 11/13/19.

Take notice that the Commission received the following electric securities filings:

Docket Numbers: ES19-65-000.

Applicants: Monongahela Power Company.

Description: Supplement to September 27, 2019 Application under Section 204 of the Federal Power Act for Authorization to Issue Securities of Monongahela Power Company.

Filed Date: 10/22/19.

Accession Number: 20191022-5173.

Comments Due: 5 p.m. ET 11/12/19.

Docket Numbers: ES20-6-000.

Applicants: Massachusetts Electric Company.

Description: Application Under Section 204 of the Federal Power Act for Authorization to Issue Securities of Massachusetts Electric Company.

Filed Date: 10/23/19.

Accession Number: 20191023-5005.

Comments Due: 5 p.m. ET 11/13/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at:

http://www.ferc.gov/docs-filing/efiling/filing-req.pdf. For other information, call (866) 208-3676 (toll free). For TTY, call (202) 502-8659.

Dated: October 23, 2019.
Nathaniel J. Davis, Sr.,
Deputy Secretary.

[FR Doc. 2019-23916 Filed 10-31-19; 8:45 am]

BILLING CODE 6717-01-P